DEPARTMENT OF HOUSING AND URBAN DEVELOPMENT

[Docket No. FR-4837-D-58]

Revocation and Redelegation of Fair Housing Act Complaint Processing Authority

AGENCY: Office of the Assistant Secretary for Fair Housing and Equal Opportunity, HUD.

ACTION: Notice of revocation and redelegation of authority.

SUMMARY: The General Deputy Assistant Secretary for Fair Housing and Equal Opportunity (FHEO) revokes the prior redelegation of his authority for Fair Housing Act complaint processing, made on August 4, 2003 (68 FR 45846), and redelegates complaint processing authority to FHEO field and headquarters staff.

EFFECTIVE DATE: June 23, 2005.

FOR FURTHER INFORMATION CONTACT: Karen A. Newton, Deputy Assistant Secretary for Operations and Management, Office of Fair Housing and Equal Opportunity, Department of Housing and Urban Development, 451 Seventh Street SW., Room 5128, Washington, DC 20410-0001, telephone (202) 708-0768. (This is not a toll-free number.) Hearing- and speech-impaired individuals may access this number through TTY by calling the toll-free Federal Information Relay Service at (800) 877-8339.

SUPPLEMENTARY INFORMATION: In a March 30, 1989, notice (54 FR 13121), the Secretary of HUD delegated the authority to enforce the Fair Housing Act to the Assistant Secretary for FHEO and the General Counsel. On August 4, 2003 (68 FR 45846), the Assistant Secretary for FHEO revoked all prior redelegations of authority for complaint processing under the Fair Housing Act (42 U.S.C. 3601 et seq.) and redelegated that authority to the General Deputy Assistant Secretary for Fair Housing and Equal Opportunity. The General Deputy Assistant Secretary then further redelegated that complaint processing authority to field and headquarters staff. After the August 4, 2003 redelegations, the FHEO Hub Directors' titles were changed to FHEO Region Directors. Additionally the Young Implementation Office closed and, consequently, there is no longer a need for delegations of authority to the Young Implementation Office. Additionally, effective January 23, 2005, FHEO created an Office of Systemic Investigations.

The Assistant Secretary's August 4, 2003 redelegation of authority for complaint processing under the Fair Housing Act to the General Deputy Assistant Secretary for FHEO remains intact. However, the General Deputy Assistant Secretary revokes the redelegations of Fair Housing Act complaint processing authority issued by him on August 4, 2003, and redelegates that authority as provided in this notice.

Section A. Authority Redelegated

The General Deputy Assistant Secretary for FHEO retains and redelegates the Fair Housing Act complaint processing authority under 24 CFR part 103 to the Deputy Assistant Secretary for Enforcement and Programs.

The Deputy Assistant Secretary for Enforcement and Programs retains and further redelegates the Fair Housing Act complaint processing under 24 CFR part 103, subparts A, B, C, D (with the exception of the filing of a Secretary-initiated complaint under 24 CFR 103.204(a)), E, and F, to the FHEO Region Directors, the FHEO Director of the Office of Enforcement, and the FHEO Director of the Office of Systemic Investigations.

The Deputy Assistant Secretary for Enforcement and Programs for FHEO retains and further redelegates the authority under 24 CFR 103.510(a) and (d) of 24 CFR subpart H to the FHEO Region Directors, the Director of the Office of Enforcement, and the Director of the Office of Systemic Investigations, with the exception of pattern and practice referrals to the Attorney General, which are redelegated only to the Director of the Office of Enforcement, and the Director of the Office of Systemic Investigations.

The Deputy Assistant Secretary for Enforcement and Programs for FHEO retains and further redelegates the authority to reconsider no cause determinations (issued pursuant to 24 CFR 103.400(a)(2)(ii)) to the Director of the Office of Enforcement.

Section B. Authority To Further Redelegate

The Deputy Assistant Secretary for Enforcement and Programs may redelegate the authorities provided in Section A of this notice. The Director of the Office of Enforcement, the FHEO Region Directors, and the Director of the Office of Systemic Investigations may not redelegate the authorities provided in Section A of this notice.

Section C. Authority Revoked

The August 4, 2003, redelegation of the General Deputy Assistant Secretary's authority (68 FR 45846) is revoked.

Authority: Section 7(d) of the Department of Housing and Urban Development Act (42 U.S.C. 3535(d)).

Dated: June 23, 2005.
Floyd O. May,
General Deputy, Assistant Secretary for Fair Housing and Equal Opportunity.

[FR Doc. E5-3499 Filed 7-5-05; 8:45 am]

BILLING CODE 4210-27-P